Title 3—

The President

Proclamation 10863 of November 20, 2024

National Rural Health Day, 2024

By the President of the United States of America

A Proclamation

In America, health care should be a right, not a privilege—no matter a person's zip code. On National Rural Health Day, we show gratitude to all the health professionals providing incredible care to the more than 60 million people who live in rural America. And we recommit to ensuring that rural communities have access to affordable, quality health care.

Too many people living in rural communities worry about whether they can access and afford health care when they need it. Rural Americans often have fewer health care providers within reach, although they are more likely to be older and have disabilities. Since 2010, over 150 rural hospitals have closed down or stopped providing in-patient care, putting a strain on local economies and leaving families without a reliable source of health care.

I came into office determined to invest in rural America—and that includes investing in rural hospitals and health care. My American Rescue Plan delivered $8.5 billion to rural healthcare providers. This funding was essential during the pandemic, helping to keep hospitals and clinics operational when they were most needed. My Administration also launched a Rural Emergency Hospital designation to provide a new option to some struggling hospitals, and the Department of Health and Human Services has provided tens of millions of dollars to expand health services and provide assistance to hospitals facing financial distress. We made historic investments of over $4 billion that can be used to deliver telehealth to increase access to health care services in rural and remote areas. The Department of Health and Human Services also updated regulations under section 504 of the Rehabilitation Act to reduce discrimination in health care against people with disabilities, including those living in rural communities.

Investing in the future of rural health care also means training the next generation of providers. That is why the Rural Emergency Hospital funds also provide funds to train health care professionals to serve rural communities, addressing both current and future needs. Programs like the National Health Service Corps support more than 3,700 rural behavioral health clinicians with scholarships and loan repayment to meet the growing needs of these communities. My Administration also launched new programs to support the training of more nurse midwives and more nurse practitioners with a focus on maternal health in underserved and rural areas. And our investments in the Delta region support community-based organizations as they expand access to and coordinate health services in rural communities in the South.

My Administration has also worked to lower the cost of health care for every American. We expanded coverage under the Affordable Care Act, reducing health insurance premiums and saving millions of families an average of $800 per year. My Inflation Reduction Act finally beat Big Pharma, empowering Medicare to negotiate lower drug prices for the first time in American history. Medicare can now negotiate prices with major manufacturers that treat everything from blood clots to cancer. It also capped the cost of insulin at $35 per month for people with Medicare. At the same time, we are requiring drug companies to reimburse Medicare if they raise prices higher than the rate of inflation—saving seniors up to $618 on medication.

My Administration has also been working to tackle the health challenges impacting rural communities—from improving maternal health care to addressing the mental health crisis and beating the opioid epidemic. We released a Blueprint for Addressing the Maternal Health Crisis.

We have expanded evidence-based home visiting services and programs like Healthy Start, which support families across the country, including in rural areas. We have invested $535 million in rural areas to expand programs that provide prevention, treatment, and recovery services for mental health and substance use disorders. Under our leadership, opioid overdose deaths are decreasing for the first time in years. We have provided tens of millions of dollars through the Department of Agriculture's Farm and Ranch Stress Assistance Network to connect vulnerable agricultural producers and their families with increased access to supportive services where they live and work. And we released a national strategy to end hunger and reduce diet-related diseases by 2030, which includes a pathway to providing free, healthy school meals for all children.

Through the Biden Cancer Moonshot, we have also been working hard to prevent cancer in rural communities, detect it early so it may be easier to treat, and connect people with world-class care, no matter where they live. Tobacco is still the number one preventable cause of cancer in this country and we have expanded efforts to help people in rural America quit smoking—so they may never face a cancer diagnosis in the first place. We have increased access to cancer screenings, making them free and widely available to virtually everyone in our Nation. And we have linked cancer screening in rural areas with treatment from centers with expertise, making sure high-quality care is accessible to all.

Across the country, American communities are writing the greatest comeback story our Nation has ever known—creating and pursuing opportunities in their hometowns and putting shovels in the ground while restoring pride in their communities, in America, and in one another. We must continue expanding access to affordable health care for every American. On National Rural Health Day, we recommit to ensuring every rural American has the resources they need to stay healthy, care for their well-being, and thrive.

NOW, THEREFORE, I, JOSEPH R. BIDEN JR., President of the United States of America, by virtue of the authority vested in me by the Constitution and the laws of the United States, do hereby proclaim November 21, 2024, as National Rural Health Day. I call upon the people of the United States to reaffirm our dedication to the health and well-being of rural America.

IN WITNESS WHEREOF, I have hereunto set my hand this twentieth day of November, in the year of our Lord two thousand twenty-four, and of the Independence of the United States of America the two hundred and forty-ninth.

[FR Doc. 2024-28225

Filed 11-27-24; 8:45 am]

Billing code 3395-F4-P